NATIONAL FOUNDATION ON THE ARTS AND THE HUMANITIES

Institute of Museum and Library Services; Privacy Act of 1974; Notice of Amendment to System of Records; Correction

AGENCY: Institute of Museum and Library Services (IMLS), National Foundation on the Arts and the Humanities.

ACTION: Notice of amendment to system of records; Correction.

SUMMARY: This document corrects the Institute of Museum and Library Services' Notice of amendment to system of records information published in the Federal Register on April 14, 2005. This correction provides updated information for managers and reflects the agency's move to a new location, thus enabling individuals who wish to access information maintained in IMLS systems to make accurate and specific requests for such information.

Corrections

In the Federal Register of April 14, 2005, in FR Doc. 05-7498, on page 19788, in the third column, correct the FOR FURTHER INFORMATION CONTACT section to read as follows:

FOR FURTHER INFORMATION CONTACT: Nancy E. Weiss, General Counsel or Rebecca W. Danvers, Director of Research and Technology, Institute of Museum and Library Services, 1800 M Street, NW., 9th Floor, Washington, DC 20036-5802; by telefax at (202) 653-4625; or by electronic mail at info@imls.gov.;

On page 19789, in the second column, correct SYSTEMS LOCATION: section to read as follows:

SYSTEMS LOCATION:

Office of Research and Technology, Institute of Museum and Library Services, 1800 M Street, NW., 9th Floor, Washington, DC 20036-5802; and

On page 19790, in the first and second columns, correct the SYSTEM LOCATION: section to read as follows:

SYSTEMS LOCATION:

Office of Research and Technology, Institute of Museum and Library Services, 1800 M Street, NW., 9th Floor, Washington, DC 20036-5802; and

On page 19791, in the first column, correct the SYSTEMS LOCATION: section to read as follows:

SYSTEMS LOCATION:

Office of Research and Technology, Institute of Museum and Library Services, 1800 M Street, NW., 9th Floor, Washington, DC 20036-5802; and,

On page 19791, in the second column, correct the SYSTEMS MANAGERS(S) AND ADDRESS section to read as follows:

SYSTEMS MANAGERS(S) AND ADDRESS:

Human Resources Officer, Institute of Museum and Library Services, 1800 M Street, NW., 9th Floor, Washington, DC 20036-5802.

EFFECTIVE DATE: May 25, 2005.

Nancy E. Weiss,
General Counsel.

[FR Doc. 05-11360 Filed 6-7-05; 8:45 am]

BILLING CODE 7036-01-M